DEPARTMENT OF HEALTH AND HUMAN SERVICES

Office of the National Coordinator for Health Information Technology

ACTION: Notification of the Establishment of the HIT Standards Committee.

SUMMARY: This notice announces the establishment of the HIT Standards Committee. The American Recovery and Reinvestment Act of 2009 (ARRA) (Pub. L. 111-5), section 13101, directs the establishment of the HIT Standards Committee. The HIT Standards Committee (also referred to as the “Committee”) is charged with making recommendations to the National Coordinator on standards, implementation specifications, and certification criteria for the electronic exchange and use of health information for purposes of adoption, consistent with the implementation of the Federal Health IT Strategic Plan, and in accordance with policies developed by the HIT Policy Committee.

FOR FURTHER INFORMATION CONTACT: Judith Sparrow, Office of the National Coordinator for Health Information Technology, e-mail judy.sparrow@hhs.gov or 202-205-4528.

SUPPLEMENTARY INFORMATION:

I. Background

The Committee and its staff are governed by the provisions of the Federal Advisory Committee Act (FACA) (Pub. L. 92-463), as amended, (5 U.S.C. App.), which sets forth standards for the formation and use of federal advisory committees.

The Committee shall determine a schedule of meetings following an election of a Chairperson and a Vice Chairperson from among its members. An initial meeting of the Committee shall take place not later than 90 days from passage of the ARRA.

II. Criteria for Members

The HIT Standards Committee shall not exceed thirty (30) voting members, including a Chair and Vice Chair, and members are appointed by the Secretary with input from the National Coordinator. Membership of the Committee shall at least reflect providers, ancillary healthcare workers, consumers, purchasers, health plans, technology vendors, researchers, relevant Federal agencies, and individuals with technical expertise on health care quality, privacy and security, and on the electronic exchange and use of health information and shall represent a balance among various sectors of the health care system so that no single sector unduly influences the recommendations of the Committee.

Non-Federal members of the Committee shall be Special Government Employees, unless classified as representatives.

III. Copies of the Charter

To obtain a copy of the Committee's charter, submit a written request to the above contact.

Dated: April 23, 2009.
David Blumenthal,
National Coordinator for Health Information Technology, Office of the National Coordinator for Health Information Technology.

[FR Doc. E9-9838 Filed 4-24-09; 4:15 pm]

BILLING CODE 4150-45-P